NUCLEAR REGULATORY COMMISSION

[Docket No. 40-8943; ASLBP No. 08-867-02-OLA-BD01]

Crow Butte Resources, Inc.; Establishment of Atomic Safety and Licensing Board

Pursuant to delegation by the Commission dated December 29, 1972, published in the Federal Register, 37 FR 28710 (1972), and the Commission's regulations, see 10 CFR 2.104, 2.300, 2.303, 2.309, 2.311, 2.318, and 2.321, notice is hereby given that an Atomic Safety and Licensing Board (Board) is being established to preside over the following proceeding:

Crow Butte Resources, Inc. (In Situ Leach Uranium Recovery Facility)

This proceeding involves a license amendment application from Crow Butte Resources, Inc. seeking a 10-year renewal of its Source Materials License for the in situ leach uranium recovery facility located in Crawford, Nebraska. In response to a May 27, 2008 Notice of Opportunity for Hearing (73 FR 30426), petitions to intervene and requests for hearing have been submitted by (1) Elizabeth Lorina and Mario Gonzales representing the Oglala Sioux Tribe, (2) Shane Robinson and David Frankel representing multiple individuals and multiple organizations, and (3) Thomas J. Ballanco representing the Oglala Delegation of the Great Sioux Nation Treaty Council.

The Board is comprised of the following administrative judges:

Michael M. Gibson, Chairman, Atomic Safety and Licensing Board Panel, U.S. Nuclear Regulatory Commission, Washington, DC 20555-0001

Dr. Richard F. Cole, Atomic Safety and Licensing Board Panel, U.S. Nuclear Regulatory Commission, Washington, DC 20555-0001

Brian K. Hajek, Atomic Safety and Licensing Board Panel, U.S. Nuclear Regulatory Commission, Washington, DC 20555-0001

Additionally, during the contention admissibility phase of this proceeding, Administrative Judge Alan S. Rosenthal shall function as the Board's Special Assistant.

All correspondence, documents, and other materials shall be filed in accordance with the NRC E-Filing rule, which the NRC promulgated in August 2007 (72 FR 49139).

Issued at Rockville, Maryland, this 14th day of August, 2008.
E. Roy Hawkens,
Chief Administrative Judge, Atomic Safety and Licensing Board Panel.

[FR Doc. E8-19383 Filed 8-20-08; 8:45 am]

BILLING CODE 7590-01-P